FEDERAL HOUSING FINANCE BOARD

Sunshine Act Meeting Notice; Announcing a Closed Meeting of the Board of Directors

Time and Date: The meeting of the Board of Directors is scheduled to begin at 10 a.m. on Wednesday, March 10, 2004.

Place: Board Room, Second Floor, Federal Housing Finance Board, 1777 F Street, NW., Washington, DC 20006.

Status: The entire meeting will be closed to the public.

Matters To Be Considered: Briefing on various disclosure initiatives and their role in supervision.

Periodic update of examination program development and supervisory findings.

FOR FURTHER INFORMATION CONTACT: Mary Gottlieb, Paralegal Specialist, Office of General Counsel, by telephone at 202/408-2826 or by electronic mail at gottliebm@fhfb.gov.

Dated: March 3, 2004.
By the Federal Housing Finance Board.
John Harry Jorgenson,
General Counsel.

[FR Doc. 04-5190 Filed 3-3-04; 2:53 pm]

BILLING CODE 6725-01-P